DEPARTMENT OF AGRICULTURE

Forest Service

Chalk Creek Timber Sales, Willamette National Forest, Lane County, OR

AGENCY: Forest Service, USDA.

ACTION: Cancellation notice.

SUMMARY: On July 28, 1999, a Notice of Intent (NOI) to prepare an environmental impact statement for the Chalk Creek Timber Sales on the Middle Fork Ranger District of the Willamette National Forest, was published in the Federal Register (64 FR 40813). The 1999 NOI is hereby rescinded.

FOR FURTHER INFORMATION CONTACT: Kristie Miller, Planning Resource Management Assistant, Middle Fork Ranger District, PO Box 1410, Oakridge, Oregon 97463, phone 541-782-2283.

Dated: July 26, 2002.
Rick Scott,
District Ranger.

[FR Doc. 02-20943 Filed 8-16-02; 8:45 am]

BILLING CODE 3410-11-M